DEPARTMENT OF TRANSPORTATION

National Highway Traffic Safety Administration

[Docket No. NHTSA-2018-XXXX]

Drugs that Impair Safe Driving; Request for Comments

AGENCY: National Highway Traffic Safety Administration (NHTSA), Department of Transportation (DOT).

ACTION: Request for comment.

SUMMARY: NHTSA is reviewing the literature on drug use and driving with the aim of updating its Drugs and Human Performance Fact Sheets that are used by the criminal justice community and others as they address drug-impaired driving. The current edition of the Fact Sheets was released in 2004 and included information on the following drugs: Carisoprodol, cocaine, dextromethorphan, diazepam, diphenhydramine, gamma-hydroxybutyrate (GHB), ketamine, lysergic acid diethylamide (LSD), marijuana, methadone, methamphetamine, methylenedioxymethamphetamine (MDMA), morphine, phencyclidine (PCP), toluene, and zolpidem. NHTSA welcomes comments and suggestions for additional drugs to be considered for inclusion in the new edition of the Fact Sheets as well as relevant research studies that have become available since 2004 that could be included in the updated fact sheets. To the extent possible, such comments and suggestions should be accompanied by information about the drug, including the extent of its use, its pharmacology and pharmodynamics, and how impairing it is for driving, along with references.

DATES: Interested parties are invited to submit comments and suggestions on or before September 1, 2018.

FOR FURTHER INFORMATION CONTACT: If you have questions about this request for comment, please contact Richard Compton at NHTSAdruginfo@dot.gov or 202-366-2699.

Written Comments: Written statements and supporting information submitted during the comment period will be considered. Please submit all written comments no later than September 1, 2018, by any of the following methods:

• Federal Rulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, Washington, DC 20590-0001, between 9 a.m. and 5 p.m. ET, Monday through Friday, except Federal Holidays.

• Fax: 202-366-1767.

Instructions: All submissions must include the agency name and docket number. Note that all comments received will be posted without change to http://www.regulations.gov, including any personal information provided. Please see the Privacy Act discussion below.

Docket: For access to the docket go to http://www.regulations.gov at any time or to 1200 New Jersey Avenue SE, West Building, Ground Floor, Room W12-140, Washington, DC 20590, between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://www.regulations.gov/privacy.html.

Confidential Business Information: If you wish to submit any information under a claim of confidentiality, you should submit three copies of your complete submission, including the information you claim to be confidential business information, to the Chief Counsel, NHTSA, 1200 New Jersey Ave. SE, W41-326, Washington DC 20590. In addition, you should submit two copies, from which you have deleted the claimed confidential business information, to Docket Management at the address given above. When you send a comment containing information claimed to be confidential business information, you should submit a cover letter setting forth the information specified in our confidential business information regulation (49 CFR part 512).

SUPPLEMENTARY INFORMATION:

Background

In the early 2000s, NHTSA convened a panel of international experts on drug-impaired driving to review developments in the field of drugs and human performance and to identify the specific effects that both high priority illicit and prescription drugs have on driving. The experts represented the fields of psychopharmacology, behavioral psychology, drug chemistry, forensic toxicology, medicine, and law enforcement. That effort resulted in the publication of a document entitled Drugs and Human Performance Fact Sheets (DOT HS 809 725) in June 2004.

Each Fact Sheet covered one of the selected sixteen drugs that impair driving. The selected drugs included over-the-counter medications such as dextromethorphan and diphenhydramine; prescription medications such as carisoprodol, diazepam, and zolpidem; and abused and/or illegal drugs such as cocaine, GHB, ketamine, LSD, marijuana, methadone, methamphetamine, MDMA, morphine, PCP, and toluene. Each individual drug Fact Sheet covered information regarding drug chemistry, usage and dosage information, pharmacology, drug effects, effects on driving, drug evaluation and classification, and the panel's assessment of driving risks. More specifically, the Fact Sheets provided details on the physical description of the drug, synonyms, and pharmaceutical or illicit sources; medical and recreational uses, recommended and abused doses, typical routes of administration, and potency and purity; mechanism of drug action and major receptor sites; drug absorption, distribution, metabolism and elimination data; blood and urine concentrations; psychological and physiological effects, and drug interactions; drug effects on psychomotor performance effects; driving simulator and epidemiology studies; and drug recognition evaluation profiles. Each Fact Sheet concludes with general statements about the drugs' ability to impair driving performance. A list of key references and recommended reading was also provided for each drug.

Since 2004, new research on these and other impairing drugs has become available. As a result, NHTSA plans to evaluate whether additional drugs that impair driving should be included in the Fact Sheets and to add them as appropriate, as well as to update information on the effects of the sixteen aforementioned drugs on driving. NHTSA will base the revised Fact Sheets on the state of current scientific knowledge. The agency intends to design the revised Fact Sheets to continue to provide practical guidance to toxicologists, pharmacologists, law enforcement officers, attorneys, and the general public to use in the evaluation of future cases.

In order to assist on the development of the new edition of the Fact Sheets, NHTSA invites comments and suggestions from the general public on additional drugs as well as relevant research studies that have become available since 2004 that could be included in the updated fact sheets. To the extent possible, such comments and suggestions should be accompanied by information about the drug, including the extent of its use, its pharmacology and pharmodynamics, and how impairing it is for driving, along with references.

Authority: 44 U.S.C. Section 3506(c)(2)(A).

Issued in Washington, DC, on July 12, 2018.
Jeff Michael,
Associate Administrator, Research and Program Development.

[FR Doc. 2018-15209 Filed 7-16-18; 8:45 am]

BILLING CODE 4910-59-P